DEPARTMENT OF COMMERCE

National Oceanic and Atmospheric Administration

Proposed Information Collection; Comment Request; Professional Development Workshops and Formal Evaluation of NOAA Educational Materials

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 13, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Bruce Moravchik, 301-713-3061 ext. 219 or Bruce.Moravchik@noaa.gov.

SUPPLEMENTARY INFORMATION:

I. Abstract

The project, Professional Development Workshops and Formal Evaluation of NOAA Educational Materials, has three primary goals:

(1) To provide a series of three one-day professional development opportunities whereby educators will learn more about coastal and ocean science, and about the wide variety of online tools and resources available to them via the NOAA Discovery Center and Ocean Explorer Web sites; (2) To develop and implement an outcomes-based evaluation of the three educator professional development workshops; and (3) To implement an outcomes-based evaluation of the online tools and resources available through the NOAA Discovery Center and Ocean Explorer Web sites.

II. Method of Collection

Paper pre- and post-workshop questionnaires will be collected on-site. Paper follow-up questionnaires will be collected via mail. Student questionnaires will be completed online. Focus groups will be completed on-site.

III. Data

OMB Number: None.

Form Number: None.

Type of Review: Regular submission.

Affected Public: Individuals or households.

Estimated Number of Respondents: 1,620.

Estimated Time Per Response: Workshop pre-questionnaire, 15 minutes; post-questionnaire, 30 minutes; follow-up questionnaire, 2 hours; student questionnaire, 30 minutes; focus group, 2 hours.

Estimated Total Annual Burden Hours: 1,035.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 6, 2006.
Gwellnar Banks,
Management Analyst, Office of the Chief Information Officer.

[FR Doc. E6-15036 Filed 9-11-06; 8:45 am]

BILLING CODE 3510-JS-P